DEPARTMENT OF COMMERCE

National Oceanic and Atmospheric Administration

[I.D. 021405D]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held March 7-10, 2005.

ADDRESSES: These meetings will be held at The Wynfrey Hotel, 1000 Riverchase Galleria, Birmingham, Alabama.

Council address: Gulf of Mexico Fishery Management Council, 3018 North U.S. Highway 301, Suite 1000, Tampa, FL 33619.

FOR FURTHER INFORMATION CONTACT: Wayne E. Swingle, Executive Director, Gulf of Mexico Fishery Management Council; telephone: 813.228.2815.

Council

Wednesday, March 9, 2005

8:30 a.m. Convene.

8:45 a.m.-10 a.m.-Receive public testimony on (a) Final Shrimp Amendment 13/EA and (b) Exempted fishing permits (if any).

10 a.m.-10:30 a.m.-Receive report on Atlantic Sea Turtle Strategy by NMFS.

10:30 a.m.-12 p.m.-Receive the Reef Fish Management Committee report.

1:30 p.m.-2 p.m.-Receive the Shrimp Management Committee report.

2 p.m.-2:30 p.m.-Receive the Joint Reef Fish/Mackerel/Red Drum Management Committee Report.

2:30 p.m.-3 p.m.-Receive the Administrative Policy Committee Report.

3 p.m.-3:30 p.m.-Receive the Sustainable Fisheries/Ecosystem Committee Report.

3:30 p.m.- 4 p.m.-Receive the Migratory Species Committee Report.

4 p.m.-5 p.m.-Receive the AP Selection Committee Report (CLOSED SESSION).

5 p.m.-5:30 p.m.-Receive the SSC Selection Committee Report (CLOSED SESSION).

Thursday, March 10, 2005

8:30 a.m.-8:45 a.m.-Receive the AP Selection Committee Report.

8:45 a.m.-9 a.m.-Receive the SSC Selection Committee Report.

9 a.m.-9:15 a.m.-Receive the Honolulu Meeting Report.

9:15 a.m.-9:30 a.m.-Receive Enforcement Reports.

9:30 a.m.-9:45 a.m.-Receive the NMFS Regional Administrator's report.

9:45 a.m.-10:15 a.m.-Receive Director's Reports.

10:15 a.m.-10:30 a.m.-Other Business.

Committee

Monday, March 7, 2005

8 a.m.-10 a.m.-The Advisory Panel (AP) Selection Committee will meet in closed session to appoint AP members.

10 a.m.-11:30 a.m-The Scientific and Statistical (SSC) Selection Committee will meet in closed session to appoint SSC members.

1 p.m.-5:30 p.m.-The Reef Fish Management Committee will meet to review Draft Reef Fish Amendment 18A, which addresses the grouper fishery. The Committee will review a revised draft of a red grouper regulatory amendment providing for commercial vessel trip limits and a revised total allowable catch (TAC). The Committee will then discuss an Options Paper for Reef Fish Amendment 26 (Red Snapper IFQ). The Committee will also review a biological opinion on the effect of the Gulf reef fish fishery, proposed by NMFS, under the Endangered Species Act. The Committee will discuss updated greater amberjack analyses and alternatives for reducing greater amberjack landings. The Committee will hear an assessment update for goliath grouper.

Tuesday, March 8, 2005

8:30 a.m.-9:30 a.m.-The Joint Reef Fish/Mackerel/Red Drum Management Committees will review an Options Paper for a Generic Offshore Aquaculture Amendment. The Committees will then hear a status report on a Draft Generic Amendment for Extension of the Charter Vessel Permit Moratorium. The Committees will also discuss SEDAR Assessments for 2009 & 2010 and hear SEDAR Assessment Updates.

9:30 a.m.-11 a.m.-The Administrative Policy Committee will meet to hear cost and budget analyses for video/teleconferencing of future meetings. The Committee will also hear a proposal on Intranet use at meetings and discuss incorporation of the Family Medical Leave Act (FMLA) standards.

12:30 p.m.-2 p.m.-The Migratory Species Committee will meet to review scoping comments on Highly Migratory Species (HMS) Amendment 2 after hearing a presentation by Russ Dunn.

2 p.m.-3:30 p.m.-The Sustainable Fisheries/Ecosystem Committee will hear a report on the Ecosystem Scientific Meeting. The Committee will also review plans for tasks to be completed under the Ecosystem Cooperative Agreement.

3:30 p.m.-5:30 p.m.-The Shrimp Management Committee will meet jointly with the Standing and Special Shrimp SSCs to review the Socioeconomic Panel (SEP) report and public comments on Final Shrimp Amendment 13 which addresses limited access in the shrimp fishery in order to make recommendations to Council. The Shrimp Management Committee will then discuss Shrimp Amendment 14.

Although other non-emergency issues not on the agendas may come before the Council and Committees for discussion, in accordance with the Magnuson-Stevens Fishery Conservation and Management Act, those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

These meetings are physically accessible to people with disabilities. Requests for sign language interpretation or other auxiliary aids should be directed to Dawn Aring at the Council (see ADDRESSES) by February 23, 2005.

Dated: February 15, 2005.
Emily Menashes,
Acting Director, Office of Sustainable Fisheries, National Marine Fisheries Service.

[FR Doc. E5-664 Filed 2-17-05; 8:45 am]

BILLING CODE 3510-22-S